DEPARTMENT OF AGRICULTURE

Animal and Plant Health Inspection Service

[Docket No. APHIS-2008-0013]

Notice of Determination of Pest-Free Areas Within the States of Ceará and Rio Grande do Norte, Brazil

AGENCY: Animal and Plant Health Inspection Service, USDA.

ACTION: Notice.

SUMMARY: We are advising the public that we are recognizing 7 municipalities in the State of Ceará and 13 municipalities in the State of Rio Grande do Norte as pest-free areas for the South American cucurbit fly. Based on our review of the documentation submitted by Brazil's national plant protection organization, which we made available to the public for review and comment through a previous notice, the Administrator has determined that those municipalities meet the criteria in our regulations for recognition as pest-free areas.

DATES: Effective Date: June 9, 2008.

FOR FURTHER INFORMATION CONTACT: Mr. Juan A. Román, Import Specialist, Commodity Import Analysis and Operations, Plant Health Programs, PPQ, APHIS, 4700 River Road, Unit 133, Riverdale, MD 20737-1231; (301) 734-8758.

SUPPLEMENTARY INFORMATION: Under the regulations in “Subpart-Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. One of the designated phytosanitary measures is that the fruits or vegetables are imported from a pest-free area in the country of origin that meets the requirements of § 319.56-5 for freedom from that pest and are accompanied by a phytosanitary certificate stating that the fruits or vegetables originated in a pest-free area in the country of origin.

Under the regulations in § 319.56-5, APHIS requires that determinations of pest-free areas be made in accordance with the criteria for establishing freedom from pests found in International Standards for Phytosanitary Measures (ISPM) No. 4, “Requirements for the Establishment of Pest-Free Areas.” The international standard was established by the International Plant Protection Convention of the United Nations' Food and Agriculture Organization and is incorporated by reference in our regulations in 7 CFR 300.5. In addition, APHIS must also approve the survey protocol used to determine and maintain pest-free status, as well as protocols for actions to be performed upon detection of a pest. Pest-free areas are subject to audit by APHIS to verify their status.

In accordance with that process, we published a notice ¹ in the Federal Register on March 3, 2008 (73 FR 11382-11383, Docket No. APHIS-2008-0013), in which we announced the availability, for review and comment, of a commodity import evaluation document in which we examined the survey protocols and other information provided by Brazil relative to its system to establish freedom, phytosanitary measures to maintain freedom, and system for the verification of the maintenance of freedom. We solicited comments on the notice for 60 days ending on May 2, 2008. We received five comments by that date, from a produce wholesaler, a fresh fruit importer, two melon producers/exporters, and the director of a Brazilian fruit fly rearing facility. All of the commenters supported the recognition of the 7 municipalities in the State of Ceará and 13 municipalities in the State of Rio Grande do Norte as pest-free areas for the South American cucurbit fly (Anastrepha grandis).

¹ To view the notice, the pest risk analysis, and the comments we received, go to http://www.regulations.gov/fdmspublic/component/main?main=DocketDetail&d=APHIS-2008-0013.

In accordance with § 319.56-5(c), we are announcing the Administrator's determination that the municipalities of Aracati, Icapuí, Itaiçaba, Jaguaruana, Limoeiro do Norte, Quixeré, and Russas in the State of Ceará and the municipalities of Açu, Afonso Bezerra, Alto do Rodrigues, Areia Branca, Baraúna, Camaubais, Grossos, Ipanguaçu, Mossoró, Porto do Mangue, Serra do Mel, Tibau, and Upanema in the State of Rio Grande do Norte meet the criteria of § 319.56-5(a) and (b) with respect to freedom from A. grandis. Accordingly, we are recognizing those municipalities as pest-free areas for A. grandis and have added them to the list of pest-free areas. You may view the list of pest-free areas on the Internet by going to http://www.aphis.usda.gov/import_export/plants/manuals/ports/index.shtml and selecting the link for designated pest-free areas under the heading “Plant Importation Manuals.”

Done in Washington, DC, this 3rd day of June 2008.
Kevin Shea,
Acting Administrator, Animal and Plant Health Inspection Service.

[FR Doc. E8-12855 Filed 6-6-08; 8:45 am]

BILLING CODE 3410-34-P